DEPARTMENT OF ENERGY

Federal Energy Regulatory Commission

[Docket No. AD04-4-001]

Panel Member List for Hydropower Licensing Study Dispute Resolution; Notice Extending Filing Date for Applications for Panel Member List for Hydropower Licensing Study Dispute Resolution

February 4, 2010.

On October 20, 2009, the Federal Energy Regulatory Commission (Commission) requested applications to be included on a list of resource experts willing to serve as a third panel member in the Commission's hydropower integrated licensing process (ILP) study dispute resolution process. We are extending the application period until August 15, 2010, to afford interested parties more time to respond to the original request. Respondents to the initial request need not reapply to be considered. Information on the application contents and how to file applications can be found in the October 20, 2009 notice or on the Commission's Web page at: http://www.ferc.gov/industries/hydropower.asp. For more information please contact David Turner at (202) 502-6091 or david.turner@ferc.gov.

Nathaniel J. Davis, Sr.,
Deputy Secretary.

[FR Doc. 2010-3158 Filed 2-18-10; 8:45 am]

BILLING CODE 6717-01-P